DEPARTMENT OF COMMERCE

International Trade Administration

[A-821-808]

Certain Cut-to-Length Carbon Steel Plate From the Russian Federation; Final Results of Administrative Review of the Suspension Agreement

AGENCY: Import Administration, International Trade Administration, Department of Commerce.

ACTION: Notice of Final Results of the Administrative Review of the Suspension Agreement on Certain Cut-to-Length Carbon Steel Plate from the Russian Federation

SUMMARY: On February 6, 2008, the Department of Commerce (the Department) published the preliminary results of an administrative review of the suspension agreement on certain cut-to-length carbon steel plate from the Russian Federation (the Agreement). See Certain Cut-to-Length Carbon Steel Plate from Russia; Preliminary Results of Administrative Review of the Suspension Agreement, 73 FR 6929 (February 6, 2008) (Preliminary Results). The period of review is January 1, 2006 through December 31, 2006. No interested parties submitted comments. Therefore, for these final results, we have made no changes to our preliminary results.

EFFECTIVE DATE: May 14, 2008.

FOR FURTHER INFORMATION CONTACT: Sally C. Gannon or Jay Carreiro, Import Administration, International Trade Administration, U.S. Department of Commerce, 14th Street and Constitution Avenue, N.W., Washington, D.C. 20230, telephone: (202) 482-0162 or (202) 482-3674, respectively.

SUPPLEMENTARY INFORMATION:

Background

On December 20, 2002, the Department signed an agreement under section 734(b) of the Tariff Act of 1930, as amended (the Act), with Russian steel producers/exporters, including J.S.C. Severstal (Severstal), which suspended the antidumping duty investigation on certain cut-to-length carbon steel plate (CTL plate) from Russia. See Suspension of Antidumping Duty Investigation: Certain Cut-to-Length Carbon Steel Plate from the Russian Federation, 68 FR 3859 (January 27, 2003).

On January 31, 2007, Nucor submitted a request for an administrative review pursuant to Antidumping or Countervailing Duty Order, Finding, or Suspended Investigation; Opportunity to Request Administrative Review, 72 FR 99 (January 3, 2007). On February 28, 2007, the Department initiated a review of the Agreement. See Initiation of Antidumping and Countervailing Duty Administrative Reviews, 72 FR 8969 (February 28, 2007). On March 14, 2007, and October 5, 2007, the Department issued its Questionnaire and Supplemental Questionnaire, respectively, to Severstal. Severstal submitted its responses on April 20, 2007, and October 26, 2007, respectively.

On October 1, 2007, the Department postponed the preliminary results of this review until January 31, 2008. See Notice of Extension of Time Limit for the Preliminary Results of Administrative Review of the Suspension Agreement on Certain Cut-to-Length Carbon Steel Plate from Russia, 72 FR 55744 (October 1, 2007). On February 6, 2008, the Department published its preliminary results of review. See Preliminary Results. We invited interested parties to comment on our preliminary results. No interested parties submitted comments, and we have made no changes to our preliminary results.

Scope of Review

The products covered by the Agreement are hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this petition are flat-rolled products of nonrectangular cross-section where such cross-section is achieved subsequent to the rolling process (i.e., products which have been “worked after rolling”)--for example, products which have been bevelled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Excluded from the subject merchandise within the scope of this Agreement is grade X-70 plate. Although the HTS subheadings are provided for convenience and customs purposes, our written description of the scope of this investigation is dispositive.

Period of Review

The period of review (POR) is January 1, 2006 through December 31, 2006.

Final Results of Review

Our review of the information submitted by Severstal indicates that the company has adhered to the terms of the Agreement, as indicated in our preliminary results. See Preliminary Results. The Department finds no evidence in the information submitted by Severstal of any discrepancies in Severstal’s exports to the United States, either directly or through third countries, which would constitute a violation of the Agreement. Furthermore, the Department has not received any comments on the matter from Nucor nor any other interested party, either prior or subsequent to the issuance of the Preliminary Results. Therefore, we continue to find that Severstal has been in compliance with the Agreement.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

We are issuing and publishing this notice in accordance with sections 751(a)(1) and 777(i)(1) of the Act.

Dated: May 6, 2008.
David M. Spooner,
Assistant Secretary for Import Administration.

[FR Doc. E8-10816 Filed 5-13-08; 8:45 am]

BILLING CODE 3510-DR-S